NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-six meetings, by video conference, of the Humanities Panel, a Federal advisory committee, during November 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: November 1, 2024

This video meeting will discuss applications on the topics of Arts and Culture, for the Media Projects: Production Grants program, submitted to the Division of Public Programs.

2. Date: November 1, 2024

This video meeting will discuss applications on the topic of Health Humanities, for the Humanities Connections Planning Grants program, submitted to the Division of Education Programs Access.

3. Date: November 1, 2024

This video meeting will discuss applications on the topic of Environmental Humanities, for the Humanities Connections Implementation Grants program, submitted to the Division of Education Programs.

4. Date: November 4, 2024

This video meeting will discuss applications on the topics of Language, Culture, and History, for Humanities Connections Planning Grants program, submitted to the Division of Education Programs.

5. Date: November 5, 2024

This video meeting will discuss applications on the topic of Art History, for the Humanities Collections and Reference Resources grant program, submitted to the Division of Preservation and Access.

6. Date: November 7, 2024

This video meeting will discuss applications on the topic of U.S. History, for the Humanities Collections and Reference Resources grant program, submitted to the Division of Preservation and Access.

7. Date: November 7, 2024

This video meeting will discuss applications on the topic of Indigenous Studies, for the Public Humanities Project: Exhibitions (Implementation) grant program, submitted to the Division of Public Programs.

8. Date: November 7, 2024

This video meeting will discuss applications on the topics of Justice, Law, and Digital Humanities, for the Humanities Connections Implementation Grants program, submitted to the Division of Education Programs.

9. Date: November 7, 2024

This video meeting will discuss applications on the topics of Civic Engagement, Law, and Religion, for the Humanities Connections Planning Grants program, submitted to the Division of Education Programs.

10. Date: November 12, 2024

This video meeting will discuss applications on the topic of Environmental Humanities, for the Humanities Connections Planning Grants program, submitted to the Division of Education Programs.

11. Date: November 13, 2024

This video meeting will discuss applications on the topics of Health Humanities and Philosophy, for the Humanities Connections Implementation Grants program, submitted to the Division of Education Programs.

12. Date: November 13, 2024

This video meeting will discuss applications on the topic of U.S. History, for the Public Humanities Projects: Exhibitions (Implementation) grant program, submitted to the Division of Public Programs.

13. Date: November 13, 2024

This video meeting will discuss applications on the topic of Art History, for the Humanities Collections and Reference Resources grant program, submitted to the Division of Preservation and Access.

14. Date: November 14, 2024

This video meeting will discuss applications on the topic of African American Studies, for the Humanities Collections and Reference Resources grant program, submitted to the Division of Preservation and Access.

15. Date: November 14, 2024

This video meeting will discuss applications on the topic of U.S. History, for the Public Humanities Projects: Exhibitions (Implementation) grant program, submitted to the Division of Public Programs.

16. Date: November 14, 2024

This video meeting will discuss applications on the topics of AI and Communication, for the Dangers and Opportunities of Technology: Perspectives from the Humanities (Collaborative) grant program, submitted to the Office of Digital Humanities.

17. Date: November 14, 2024

This video meeting will discuss applications on the topics of AI, Technology, Computer Science, for the Humanities Connections Planning Grants grant program, submitted to the Division of Education Programs.

18. Date: November 14, 2024

This video meeting will discuss applications on the topics of Gen Ed and Digital Humanities Business, for the Humanities Connections Planning Grants program, submitted to the Division of Education Programs.

19. Date: November 15, 2024

This video meeting will discuss applications on the topic of American Studies, for the Media Projects: Production Grants program, submitted to the Division of Public Programs.

20. Date: November 18, 2024

This video meeting will discuss applications on the topics of Critical Data and Cultural Studies, for the Dangers and Opportunities of Technology: Perspectives from the Humanities (Collaborative) grant program, submitted to the Office of Digital Humanities.

21. Date: November 18, 2024

This video meeting will discuss applications for the Dynamic Language Infrastructure—Documenting Endangered Languages Fellowships grant program, submitted to the Division of Research Programs.

22. Date: November 19, 2024

This video meeting will discuss applications on the topic of Ethnography, for the Archaeological and Ethnographic Field Research grant program, submitted to the Division of Research Programs.

23. Date: November 19, 2024

This video meeting will discuss applications on the topics of AI and Media, for the Dangers and Opportunities of Technology: Perspectives from the Humanities (Collaborative) grant program, submitted to the Office of Digital Humanities.

24. Date: November 19, 2024

This video meeting will discuss applications on the topic of U.S. History, for the Humanities Collections and Reference Resources grant program, submitted to the Division of Preservation and Access.

25. Date: November 25, 2024

This video meeting will discuss applications on the topic of Ethics, for the Dangers and Opportunities of Technology: Perspectives from the Humanities (Collaborative) grant program, submitted to the Office of Digital Humanities.

26. Date: November 26, 2024

This video meeting will discuss applications on the topic of World Studies, for the Humanities Collections and Reference Resources grant program, submitted to the Division of Preservation and Access.

Because these meetings will include review of personal and/or proprietary financial and commercial information given in confidence to the agency by grant applicants, the meetings will be closed to the public pursuant to sections 552b(c)(4) and 552b(c)(6) of title 5, U.S.C., as amended. I have made this determination pursuant to the authority granted me by the Chair's Delegation of Authority to Close Advisory Committee Meetings dated April 15, 2016.

Dated: October 4, 2024.
Jessica Graves,
Paralegal Specialist, National Endowment for the Humanities.

[FR Doc. 2024-23362 Filed 10-8-24; 8:45 am]

BILLING CODE 7536-01-P